FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than April 7, 2025.

A. Federal Reserve Bank of Kansas City (Jeffrey Imgarten, Assistant Vice President), 1 Memorial Drive, Kansas City, Missouri 64198-0001. Comments can also be sent electronically to KCApplicationComments@kc.frb.org:

1. The Burke L. Matthews Irrevocable Trust, Earl H. Matthews Irrevocable Trust, Don H. Berkley Trust, Robert B. Berkley Trust, Eleanor L. Berkley Trust, Kent M. Berkley Grandkids Trust (“Grandkids Trusts”), Burke L. Matthews, individually, and as co-trustee of the Kent M. Berkley Trust, Hal J. Berkley Trust, Earl H. Matthews Irrevocable Trust, Paula C. Nelson Irrevocable Trust, and Mary B. Phelps Irrevocable Trust, Gretchen Hunt, Eileen L. Berkley, Eleanor L. Berkley, as co-trustee of the Eleanor L. Berkley Trust, Earl H. Matthews, individually, and as co-trustee of the Paula C. Nelson Irrevocable Trust, Mary B. Phelps Irrevocable Trust, and Burke L. Matthews Irrevocable Trust, Amy K. Hemmer, individually, and as co-trustee of Grandkids Trusts, Karla J. Spurgeon, individually, and as co-trustee of the Jeff A. Berkley Revocable Trust, and Calvin J. Berkley, individually, and as co-trustee of the Jeff A. Berkley Revocable Trust, all of Salina, Kansas; The Paula C. Nelson Irrevocable Trust, Mary B. Phelps Irrevocable Trust, Scott Deckert, as co-trustee of the Karen M. Deckert Trust, Paula C. Nelson, individually and as co-trustee of the Hal J. Berkley Trust, Earl H. Matthews Irrevocable Trust, Mary B. Phelps Irrevocable Trust, and Burke L. Matthews Irrevocable Trust, Mary B. Phelps, individually, and as co-trustee of the Earl H. Matthews Irrevocable Trust, Paula C. Nelson Irrevocable Trust, and Burke L. Matthews Irrevocable Trust, and Karen M. Deckert, as co-trustee of the Don H. Berkely Trust and Karen M. Deckert Trust, all of Tescott, Kansas; Alex K. Berkley, individually, and as co-trustee of Grandkids Trusts, and Carolyn B. Counihan, individually, and as co-trustee of Grandkids Trusts, both of Mercer Island, Washington; Jonathan D. Berkley, as co-trustee of the Robert B. Berkley Trust, and James E. Berkley, as co-trustee of the Kent M. Berkley Trust, both of Stockton, Kansas; Craig Berkley, individually, and as co-trustee of the Grandkids Trusts, Brooklyn, New York; Vicki Padgett, as co-trustee of the Don H. Berkley Trust, Abilene, Kansas; and Jeff A. Berkley, as co-trustee of the Don H. Berkley Trust and Jeff A. Berkley Revocable Trust, Lawrence, Kansas; to join the Berkley Family Group, a group acting in concert, to retain voting shares of Berco, Inc., and thereby indirectly retain voting shares of The Bennington State Bank, both of Salina, Kansas.

Board of Governors of the Federal Reserve System.
Michele Taylor Fennell,
Associate Secretary of the Board.

[FR Doc. 2025-04873 Filed 3-20-25; 8:45 am]

BILLING CODE P